DEPARTMENT OF ENERGY

Bonneville Power Administration

Stateline Wind Project

AGENCY: Bonneville Power Administration (BPA), Department of Energy (DOE).

ACTION: Notice of intent to prepare an Environmental Impact Statement (EIS) and notice of floodplain and wetlands involvement.

SUMMARY: BPA and Walla Walla County, Washington, intend to jointly prepare an EIS on the proposed Stateline Wind Project, located along the Oregon-Washington border in Walla Walla County, Washington, and Umatilla County, Oregon. FPL Energy Vansycle LLC (FPL Energy) proposes to construct and operate the 300 megawatt (MW) wind generation facility; BPA proposes to purchase up to 300 MW of the electrical output from the project and to provide transmission services. The EIS will consider the potential site-specific impacts of the construction and operation of the wind project itself, as well as any related transmission facilities. In addition, the EIS will take a broad programmatic look at the surrounding Potential Wind Power Development Area and the associated cumulative biological impacts.

This action may involve floodplain and wetlands located in Walla Walla County, Washington, and/or Umatilla County, Oregon. In accordance with DOE regulations for compliance with floodplain and wetlands environmental review requirements, BPA will prepare a floodplain and wetlands assessment and will perform this proposed action in a manner so as to avoid or minimize potential harm to or within the affected floodplain and wetlands. The assessment and a floodplain statement of findings will be included in the EIS being prepared for the proposed project in accordance with the National Environmental Policy Act (NEPA).

DATES: BPA has established a 30-day scoping period during which affected landowners, concerned citizens, special interest groups, local governments, and any other interested parties are invited to comment on the scope of the proposed EIS. Scoping will help BPA ensure that a full range of issues related to this proposal is addressed in the EIS, and also will identify significant or potentially significant impacts that may result from the proposed project. Written comments are due to the address below no later than July 7, 2000. Comments may also be made at the EIS scoping meetings to be held on June 14, 15, and 22, 2000.

ADDRESSES: BPA invites comments and suggestions on the proposed scope of the Draft EIS. Send comment letters and requests to be placed on the project mailing list to Communications, Bonneville Power Administration—KC-7, P.O. Box 12999, Portland, Oregon, 97212. The phone number of the Communications office is 503-230-3478 in Portland; toll-free 1-800-622-4519 outside of Portland. Comments may also be sent to the BPA Internet address: comment@bpa.gov.

The EIS scoping meetings will be held at Helix High School, 120 Main Street, Helix, Oregon, on Wednesday, June 14, 2000, from 6:30 p.m. to 9 p.m., at Touchet High School, 90 Champion Street, Touchet, Washington, on Thursday, June 15, 2000, from 6:30 p.m. to 9 p.m.; and at BPA, Room 470, 905 NE 11th Avenue, Portland, Oregon, on June 22, 2000, from 1 p.m. to 3 p.m. At these informal meetings, FPL Energy will provide information, including maps and visual simulations, about the wind project; State and County officials will describe their related processes. Written information will also be available, and BPA staff will answer questions and accept oral and written comments.

FOR FURTHER INFORMATION CONTACT: Katherine S. Pierce B KECP-4, Bonneville Power Administration, P.O. Box 3621, Portland, Oregon 97208-3621, phone number 503-230-3962, fax number 503-230-5699.

SUPPLEMENTARY INFORMATION:

Background

Restructuring in the electric utility industry has resulted in increased demand for energy produced by new renewable resources. Part of this demand is due to the increased ability consumers have to choose their power provider. Some of these consumers want to encourage the development of renewable energy resources, and want their power provider to give them options for doing this. Some Northwest states (such as Oregon) have passed laws that require utilities to offer their customers a power rate that includes significant new renewable energy resources. In other cases, individual utilities have chosen to dedicate a portion of their wholesale power purchases to new renewable resources and are looking to BPA to supply them. In addition, the Northwest Power Planning Council's Fourth Conservation and Electric Power Plan recommends that Northwest utilities offer green power purchase opportunities as a way to help the region integrate renewable resources into the power system in the future.

Purpose and Need

In the face of regional growth in electrical loads and increasing constraints on the existing energy resource base, BPA needs to acquire resources that will contribute to diversification of the long-term power supply prospects in the region. The purposes of acquiring a diverse resource portfolio include:

• Protecting BPA and its customers against risk;

• Assuring consistency with BPA's responsibility under the Pacific Northwest Electric Power Planning and Conservation Act (Northwest Power Act) to encourage the development of renewable energy resources;

• Meeting customer demand for energy from renewable energy resources, thereby assuring consistency with BPA's Business Plan EIS (DOE/EIS-0183, June 1995) and Business Plan ROD;

• Assuring consistency with the resource acquisition strategy of BPA's Resource Programs EIS (DOE/EIS-February 1993) and ROD; and

• Meeting the objective in the January 2000 Strategic Plan of BPA's Power Business Line to acquire at least 150 average MW of new renewable resources by the end of fiscal year 2006 in order to meet customer demand for new renewable resources.

Proposed Action

BPA proposes to execute one or more power purchase and transmission services agreements to acquire and transmit up to the full electrical output of FPL Energy's proposed Stateline Wind Project. FPL Energy proposes to construct and operate this 250- to 300-MW wind generation facility, located in southern Walla Walla County, Washington, and in Umatilla County, Oregon, along the Oregon-Washington border. This location is several miles north and west of the existing 24.9-MW Vansycle Ridge wind project, located in Umatilla County, Oregon. The proposed project site consists of ridge tops located in an area of rolling, arid hills bisected by canyons. Land uses within the project site consist of non-irrigated agriculture-winter wheat and cattle grazing. The project will be located entirely on private farmland, and no project facilities will be constructed upon lands owned by the States of Oregon or Washington or by the United States.

The approximately 250 to 450 turbines will be arranged in several “strings,” with generally approximately 200 to 300 feet between turbines in each string. FPL Energy is considering using either 660-kilowatt (kW) turbines similar to those used at the existing Vansycle Wind Project, or larger, up to 1,300-kW (1.3 MW) turbines if needed to meet the demand for power. If the 660-kW turbines are used, the turbines will be about 165 feet tall at the turbine hub, and about 245 feet tall including the turbine blades. The diameter of the circle covered by the rotors will be about 154 feet. Each turbine will be mounted on a tubular steel tower installed on a concrete foundation approximately 20 feet in diameter. The pad will be buried up to 15 feet underground. If the 1,300-kW turbines are needed, all these dimensions will be somewhat greater. Agricultural activities generally can take place directly adjacent to the turbine pads.

The turbine towers will be tubular steel structures. The turbines will be linked to each other using underground electrical cables. Power from all turbines in the project will be transmitted by a combination of underground and overhead cables to similar strings and then to a proposed substation to be located in Washington. The fenced substation site will occupy approximately one to two acres. From the substation site, power from the project will be transmitted by new above-ground lines (likely H-frame wood towers) to interconnect with one or more existing transmission lines: about eight to ten miles to a 115-kilovolt (kV) BPA transmission line located north of the Walla Walla River and/or a 230-kV PacifiCorp transmission line located two miles to the west of the project (south of the Walla Walla River). Other facilities required as part of the project are access roads, an operations and maintenance (O&M) building, and a water tank. Most of the access roads will consist of improved, graveled, existing farm roads, with some construction of new graveled roads in areas where usable farm roads do not exist. The O&M building will probably be located near Hatchgrade Road to provide good visibility of the turbines.

FPL Energy proposes to begin construction in late 2000 or early 2001. The Stateline Wind Project is scheduled to begin commercial operation late in 2001, and would operate for at least 25 years.

Process to Date

FPL Energy has filed an application for a Conditional Use Permit from Walla Walla County, Washington, Regional Planning. Oregon Department of Energy has received and approved FPL Energy's request for Expedited Review of FPL Energy's Application for a Site Certificate. In addition, the Oregon Department of Energy and the Oregon Department of Fish and Wildlife have suggested that the EIS address both the Stateline Wind Project (at a site-specific level) and a broader Potential Wind Development Area (at a broad, programmatic level). This Area was the subject of a baseline avian study conducted in the mid-1990's. Some environmental analyses have already been conducted by FPL Energy for the Stateline Wind Project. Surveys for sensitive plant and animal species were conducted in the spring of 1999 and surveys for sensitive animal species and cultural resources were conducted in the spring of 2000. Scoping will help identify what additional studies will be required.

Alternatives Proposed for Consideration

The alternatives include the proposed action (executing a power purchase agreement with FPL Energy for up to 300 MW of electrical energy from the proposed Stateline Wind Project) and the No Action alternative. In addition, at least two transmission alternatives will be examined in the EIS.

Identification of Environmental Issues

For other wind projects, noise, visual impacts, cultural resources, and impacts to sensitive plant and animal species have been identified as potential environmental issues. The scoping process will help identify the range of environmental issues that should be addressed in this EIS. Maps and further information are available from BPA at the address above.

When completed, the Draft EIS will be circulated for review and comment, and BPA will hold public comment meetings for the Draft EIS. BPA will consider and respond to comments received on the Draft EIS in the Final EIS, expected to be published in late 2000 or early 2001. BPA's subsequent decision will be documented in a Record of Decision (ROD).

The EIS will satisfy the requirements of the NEPA and the Washington State Environmental Policy Act (SEPA). The State of Oregon will coordinate its Energy Facility Siting process with the NEPA/SEPA process.

Issued in Portland, Oregon, on May 25, 2000.
Terence G. Esvelt,
Acting Administrator and Chief Executive Officer.

[FR Doc. 00-13965 Filed 6-2-00; 8:45 am]

BILLING CODE 6450-01-P